DEPARTMENT OF THE INTERIOR

Bureau of Land Management

[17X.LLIDT03000.L14400000.FR0000.241A; 4500110086]

Notice of Realty Action: Recreation and Public Purpose (R&PP) Act Classification and Conveyance: Idaho

AGENCY: Bureau of Land Management, Interior.

ACTION: Notice of realty action.

SUMMARY: The Bureau of Land Management (BLM) has examined certain public lands in Lincoln County, Idaho, and has found them suitable for classification for conveyance to Lincoln County under the provisions of the Recreation and Public Purposes Act (R&PP), as amended, Sec. 7 of the Taylor Grazing Act, and Executive Order No. 6910. The 13.78 acre parcel conforms to the official plat of survey. Lincoln County proposes to use the land for operating and maintaining a municipal solid waste transfer station that accepts only non-hazardous waste for transfer to the Milner Butte Landfill. Therefore, the BLM would convey the land to Lincoln County as a new disposal site.

DATES: Submit written comments regarding the classification or conveyance of the public land described in this Notice by close of business on July 5, 2019.

ADDRESSES: Mail written comments concerning this Notice to Codie Martin, Shoshone Field Manager, BLM, Shoshone Field Office, 400 West F Street, Shoshone, Idaho 83352. Comments may be mailed or hand delivered to the Shoshone Field Office, or faxed to 208-732-7317. The BLM will not consider comments received via telephone or email.

FOR FURTHER INFORMATION CONTACT: Kasey Prestwich, Realty Specialist, at the above address, by phone at 208-732-7204, or via email: kprestwich@blm.gov. Persons who use a telecommunications device for the deaf may call the Federal Relay Service (FRS) at 800-877-8339 to leave a message or question for the above individual. The FRS is available 24 hours a day, 7 days a week. You will receive a reply during normal business hours.

SUPPLEMENTARY INFORMATION: The lands examined and identified as suitable for conveyance under the R&PP Act are described as:

Boise Meridian, Idaho

T. 5 S., R. 17 E.,

Sec. 26, lot 1.

The area described contains 13.78 acres.

The lands are not needed for any Federal purposes.

The conveyance of the lands for recreational or public purposes is in conformance with the BLM Monument Resource Management Plan as amended by the Amendments to Shoshone Field Office Land Use Plans for Land Tenure Adjustment and Areas of Critical Environmental Concern dated August 20, 2003, and would be in the national interest. The authorized officer has examined the land and determined pursuant to 43 CFR 2743.2(a)(5) that no hazardous substances are present on the property.

As a political subdivision of the State of Idaho, Lincoln County is a qualified applicant under the R&PP Act. Lincoln County has not applied for more than the 6,400-acre limitation for recreation uses in a year, nor more than 640 acres for each of the programs involving public resources other than recreation.

Lincoln County has submitted a statement in compliance with the regulations at 43 CFR 2741.4(b). A patent would not be issued until at least July 19, 2019. Pursuant to the R&PP Act, the special pricing schedule for land that will be government-controlled, used for government purposes, and serve the public is $10 per acre. The 13.78 acres to be used for the waste transfer station will be offered to Lincoln County for $137.80.

All interested parties will receive a copy of this Notice once it is published in the Federal Register. The Notice will also be published in a newspaper of general circulation in the local area once a week for three consecutive weeks. The regulations at 43 CFR subpart 2741 addressing requirements and procedures for R&PP Act conveyances do not require a public meeting.

Upon publication of this Notice in the Federal Register, the lands will be segregated from all forms of appropriation under the public land laws, including locations under the mining laws, except for conveyance under the R&PP Act and leasing under the mineral leasing laws.

The United States patent to the land would be issued subject to valid existing rights, and would contain the following reservations, terms, and conditions, as well as any additional terms or conditions required by law, including any terms or conditions required by 43 CFR 2741.5.

1. Reserving to the United States a right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Valid existing rights for a public roadway granted to Shoshone Highway District #2, its successors or assigns, pursuant to the Federal Land Policy and Management Act (FLPMA) of October 21, 1976 (43 U.S.C. 1761).

5. Valid existing rights for a power line granted to Idaho Power Company, its successors or assigns, pursuant to FLPMA.

6. Pursuant to the requirements of the Comprehensive Environmental Response, Compensation, and Liability Act (CERCLA), 42 U.S.C. 9620(h) and CERCLA 120(h), as to the following lands: sec. 26; T. 5 N., R. 17 E; Boise Meridian, Idaho. A complete search of Agency files has revealed the following:

a. No storage of hazardous substances has occurred on the above lands for one year or more;

b. Hazardous Materials Use: Lincoln County is responsible for the transfer station on the subject property, as well as the above ground fuel storage tank. The above ground fuel storage tank has secondary containment and is in compliance with State and local regulations; and

c. No releases of hazardous substances have occurred on the above lands. Hazardous Materials Potential: Preliminary Assessment, phase 1 Environmental Site Assessment, and soil sampling of the area indicates no releases of metals, petroleum hydrocarbons, chlorofluorocarbons, and polychlorinated biphenyls.

7. Patentee, by accepting this patent, agrees to be the potentially responsible party if a release is identified in association with the County's operation of a solid waste transfer station residing on the subject property.

8. Patentee shall comply with State and local requirements pertaining to permitting, compliance, release reporting, and clean-up associated with past or present operations at their solid waste transfer station on the subject property.

9. An appropriate indemnification clause protecting the United States from claims arising out of the patentee's use, occupancy, or operations on the patented lands.

10. If, at any time, the patentee transfers to another party ownership of any portion of the land not used for the purpose(s) specified in the application and approved plan of development, the patentee shall pay the BLM the fair market value, as determined by the authorized officer, of the transferred portion as of the date of transfer, including the value of any improvements thereon.

11. No portion of the land shall under any circumstances revert to the United States if any such portion has been used for solid waste disposal/storage or any other purpose which may result in the disposal, placement, or release of any hazardous substance.

Classification Comments: Interested persons may submit comments involving the suitability of the land for development of a municipal solid waste transfer station. Comments on the classification are restricted to whether the land is physically suited for the proposal, whether the use will maximize the future use or uses of the land, whether the use is consistent with local planning and zoning, or if the use is consistent with State and Federal programs.

Application Comments: Interested persons may submit comments regarding the specific use proposed in the application and plan of development and management, whether the BLM followed proper administrative procedures in reaching the decision, or any other factor not directly related to the suitability of the lands for a municipal solid waste transfer station.

Any adverse comments will be reviewed by the BLM State Director or other authorized official of the Department of the Interior, who may sustain, vacate, or modify this realty action. In the absence of any adverse comments, the classification will take effect on July 19, 2019. The lands will not be offered for conveyance until after the classification becomes effective.

Before including your address, phone number, email address, or other personal identifying information in any comment, be aware that your entire comment including your personal identifying information may be made publicly available at any time. While you can ask us in your comment to withhold your personal identifying information from public review, we cannot guarantee that we will be able to do so.

Authority: 43 CFR 2741.5.

Codie Martin,
Shoshone Field Manager.

[FR Doc. 2019-10474 Filed 5-17-19; 8:45 am]

BILLING CODE 4310-GG-P